DEPARTMENT OF HEALTH AND HUMAN SERVICES

Administration for Children and Families

[CFDA Number: 93.676]

Announcement of an Award for a Single-Source Urgent and Compelling Grant Under the Unaccompanied Children's Services Program to BCFS Health and Human Services Emergency Management Division (BCFS EMD)

AGENCY: Office of Refugee Resettlement, ACF, HHS.

ACTION: Notice of Award of a single-source urgent and compelling grant to BCFS Health and Human Services (BCFS) in San Antonio, TX.

SUMMARY: The Administration for Children and Families (ACF), Office of Refugee Resettlement (ORR), announces the award of a single-source urgent and compelling grant for $160,459,524 under the Unaccompanied Children's (UC) Program in response to Unsolicited Proposal UN-2016-01.

The proposal submitted by BCFS EMD was not solicited either formally, or informally, by any Federal Government Official. The proposed turnkey operations are outside of the scope of ACF funding opportunity announcements that have been or are expected to be issued. BCFS EMD has proposed to build temporary semi-permanent infrastructure and capacity to provide for operational requirements to support the housing and daily living activities of up to 5,000 UC, throughout their initial intake, assessment and reunification phase. These additional beds will allow for additional capacity until the end of the fiscal year to accommodate the anticipated level of UC referrals through FY 15 should HHS exceed the shelter capacity currently available.

ORR has been identifying additional capacity to provide shelter for potential increases in apprehensions of Unaccompanied Children at the U.S. Southern Border. Planning for increased shelter capacity is a prudent step to ensure that ORR is able to meet its responsibility, by law, to provide shelter for Unaccompanied Children referred to its care by the Department of Homeland Security (DHS).

BCFS has the infrastructure, licensing, experience and appropriate level of emergency staff to meet the service requirements and the urgent need for expansion of services. BCFS provides residential services to UC in the care and custody of ORR, as well as services to include counseling, case management, and additional support services to the family or to the UC and their sponsor when a UC is released from ORR's care and custody.

DATES: Single-source urgent and compelling award funds will support activities from September1, 2016 through December 31, 2016.

FOR FURTHER INFORMATION CONTACT: Jallyn Sualog, Director, Division of Children's Services, Office of Refugee Resettlement, 330 C Street SW., Washington, DC 20201. Email: DCSProgram@acf.hhs.gov.

SUPPLEMENTARY INFORMATION:

ORR is continuously monitoring its capacity to shelter the unaccompanied children referred to HHS, as well as the information received from interagency partners, to inform any future decisions or actions.

ORR has specific requirements for the provision of services. Award recipients must have the infrastructure, licensing, experience, and appropriate level of trained staff to meet the service requirements and the urgent need for expansion of services. The program's ability to avoid a buildup of children waiting, in Border Patrol stations, for placement in shelters, can only be accommodated through the expansion of the existing program and its services through the award.

Statutory Authority: This program is authorized by—

(A) Section 462 of the Homeland Security Act of 2002, which in March 2003, transferred responsibility for the care and custody of Unaccompanied Alien Children from the Commissioner of the former Immigration and Naturalization Service (INS) to the Director of ORR of the Department of Health and Human Services (HHS).

(B) The Flores Settlement Agreement, Case No. CV85-4544RJK (C. D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

Christopher Beach,
Office of Administration, Office of Financial Services, Division of Grants Policy.

[FR Doc. 2016-31014 Filed 12-22-16; 8:45 am]

BILLING CODE 4184-45-P